CONSUMER PRODUCT SAFETY COMMISSION

Sunshine Act Meetings

TIME AND DATE: Wednesday, July 14, 2010, 9 a.m.-12 Noon.

PLACE: Hearing Room 420, Bethesda Towers, 4330 East West Highway, Bethesda, Maryland.

STATUS: Commission Meeting—Open to the Public.

MATTERS TO BE CONSIDERED: 1. Decisional Matter: Cribs—Notice of Proposed Rulemaking (NPR).

2. Public Accommodation—Virginia Graeme Baker Pool and Spa Safety Act.

3. Interim Policy and Partial Lifting of the Stay on Component Testing and Certification of Children's Toys and Child Care Articles to the Phthalates Limits.

A live webcast of the Meeting can be viewed at http://www.cpsc.gov/webcast.

For a recorded message containing the latest agenda information, call (301) 504-7948.

CONTACT PERSON FOR MORE INFORMATION: Todd A. Stevenson, Office of the Secretary, U.S. Consumer Product Safety Commission, 4330 East West Highway, Bethesda, MD 20814, (301) 504-7923.

Dated: July 6, 2010.
Todd A. Stevenson,
Secretary.

[FR Doc. 2010-16817 Filed 7-6-10; 4:15 pm]

BILLING CODE 6355-01-P